DEPARTMENT OF ENERGY

Federal Energy Regulatory Commission

[Project No. 13-023]

Green Island Power Authority; Notice of Staff Participation in Meeting

March 9, 2009.

On March 24, 2009, Office of Energy Projects staff will participate by teleconference in a work group meeting to discuss fishery resources and fish passage issues for the relicensing of the Green Island Hydroelectric Project (FERC No. 13-023). The meeting will begin at 11 a.m. EDST.

For parties wishing to participate in the teleconference, the call-in number is 1-866-448-6761 (participant code: 129040#). For further information please contact Wendy Jo Carey, Albany Engineering Corporation, at (518) 456-7712, ext. 401, or Tom Dean, FERC, at (202) 502-6041.

Kimberly D. Bose,
Secretary.

[FR Doc. E9-5557 Filed 3-13-09; 8:45 am]

BILLING CODE 6717-01-P